DEPARTMENT OF DEFENSE

Office of the Secretary

[Docket ID: DOD-2018-OS-0057]

Proposed Collection; Comment Request

AGENCY: Office of the Chief Management Officer (CMO), DoD.

ACTION: Information collection notice.

SUMMARY: In compliance with the Paperwork Reduction Act of 1995, the Pentagon Force Protection Agency (PFPA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 23, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Pentagon Force Protection Agency, 5611 Columbia Pike, Falls Church, VA 22041, ATTN: Mark E. Ryan or email pfpa.ncr.rmfo.mbx.recruitment@mail.mil.

SUPPLEMENTARY INFORMATION:

Title; Associated Form; and OMB Number: PFPA Recruitment, Medical, and Fitness Forms; PFPA Form 1400, PFPA Form 6040, PFPA Form 1407, PFPA Form 1410, PFPA Form 1408, PFPA Form 1409 and DA Form 4700; OMB Control Number 0704-XXXX.

Needs and Uses: This information collection is essential to PFPA and is used to make a determination of fitness for federal employment in the field of law enforcement. To that end, criminal, background and medical information is collected on the applicants.

Information Being Collected From Applicants (PFPA Form 1400, PFPA Form 6040, and DA Form 4700)

Affected Public: Individuals and Households.

Annual Burden Hours: 220.

Number of Respondents: 240.

Responses per Respondent: 3.

Annual Responses: 720.

Average Burden per Response: 18.33 minutes.

Frequency: As required.

Information Being Collected From Former Supervisors (PFPA Form 1407 and PFPA Form 1410)

Affected Public: Individuals and Households.

Annual Burden Hours: 240.

Number of Respondents: 1,920.

Responses per Respondent: 1.

Annual Responses: 1,920.

Average Burden per Response: 7.5 minutes.

Frequency: As required.

Information Being Collected From References (PFPA Form 1409)

Affected Public: Individuals and Households.

Annual Burden Hours: 160.

Number of Respondents: 960.

Responses per Respondent: 1.

Annual Responses: 960.

Average Burden per Response: 10 minutes.

Frequency: As required.

Information Being Collected From Other Law Enforcement Agencies (PFPA Form 1408)

Affected Public: Individuals and Households.

Annual Burden Hours: 20.

Number of Respondents: 240.

Responses per Respondent: 1.

Annual Responses: 240.

Average Burden per Response: 5 minutes.

Frequency: As required.

These forms collect information from applicants, former supervisors, character references and other law enforcement agencies that the applicants have applied to.

Dated: August 21, 2018.
Aaron T. Siegel,
Alternate OSD Federal Register Liaison Officer, Department of Defense.

[FR Doc. 2018-18391 Filed 8-23-18; 8:45 am]

BILLING CODE 5001-06-P